DEPARTMENT OF VETERANS AFFAIRS

Health Services Research and Development Service Merit Review Board, Notice of Meeting

The Department of Veterans Affairs (VA) gives notice under Public Law 92-463, Federal Advisory Committee Act, that a meeting of the Health Services Research and Development Service Merit Review Board will be held September 20-22, 2004, at the Washington Marriott, 1221 22nd Street, NW., Washington, DC 20037. On September 20, the Nursing Research Initiative (NRI) review will be held from 12:30 p.m. to 4:30 p.m. and the orientation session will be conducted from 7 p.m. to 9 p.m. On September 21-22, the Investigator Initiated Research and Service Directed Project (IRR/SDP) reviews will be held from 8 a.m. to 5 p.m. both days.

The purpose of the Board is to review research and development applications concerned with the measurement and evaluation of health care services and with testing new methods of health care delivery and management, and nursing research. Applications are reviewed for scientific and technical merit. Recommendations regarding funding are prepared for the Chief Research and Development Officer.

On September 20, the meeting will be open to the public for approximately one half-hour from 7 p.m. until 7:30 p.m. to cover administrative matters and to discuss the general status of the program. The remaining portion of the meeting on September 20-22 will be closed. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to compromise significantly the implementation of proposed agency action regarding such research projects). As provided by subsection 10(d) of Public Law 92-463, as amended by Public Law 99-409, closing portions of these meetings is in accordance with 5 U.S.C. 552b(c)(6) and (9)(B).

Those who plan to attend the open session should contact the Assistant Director, Scientific Review (124S), Health Services Research and Development Service, Department of Veterans Affairs, 1722 Eye Street, NW., Washington, DC, at least five days before the meeting. For further information, call (202) 254-0207.

Dated: July 13, 2004.
By Direction of the Secretary:
E. Philip Riggin,
Committee Management Officer.

[FR Doc. 04-16310 Filed 7-16-04; 8:45 am]

BILLING CODE 8320-01-M